DEPARTMENT OF EDUCATION

[Docket No.: ED-2025-SCC-0217]

Agency Information Collection Activities; Submission to the Office of Management and Budget for Review and Approval; Comment Request; Application for Grants Under the Strengthening Institutions Program, ALN# 84.031A & 84.031F

AGENCY: Office of Postsecondary Education (OPE), Department of Education (ED).

ACTION: Notice.

SUMMARY: In accordance with the Paperwork Reduction Act (PRA) of 1995, the Department is proposing an extension without change of a currently approved information collection request (ICR).

DATES: Interested persons are invited to submit comments on or before August 27, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Nalini Lamba-Nieves, 202-453-7953.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application for grants under the Strengthening Institutions Program, ALN# 84.031A & 84.031F.

OMB Control Number: 1840-0114.

Type of Review: An extension without change of a currently approved ICR.

Respondents/Affected Public: Private Sector.

Total Estimated Number of Annual Responses: 590.

Total Estimated Number of Annual Burden Hours: 38,350.

Abstract: This request is for an extension of the application booklet for the Strengthening Institutions Program (SIP), Assistance Listing Numbers (ALN) # 84.031A and 84.031F. SIP provides grants to eligible institutions of higher education (IHEs) to improve their academic programs, institutional management, and fiscal stability to increase their self-sufficiency and strengthen their capacity. Funding is targeted to institutions that enroll a large proportion of financially disadvantaged students and have low per-student expenditures. Section 311(b) and Section 391(a)(1) of Title III, Part A of the Higher Education Act of 1965, as amended (HEA), 20 US Code Section 1057 and the governing regulations (34 CFR 607.1-607.31) require collection of the information identified in the application package prior to any new awards being made.

This collection is being submitted under the Streamlined Clearance Process for Discretionary Grant Information Collections (1894-0001). Therefore, the 30-day public comment period notice will be the only public comment notice published for this information collection.

Ross Santy,
Chief Data Officer, Office of Planning, Evaluation and Policy Development.

[FR Doc. 2025-14208 Filed 7-25-25; 8:45 am]

BILLING CODE 4000-01-P